DEPARTMENT OF THE INTERIOR

Fish and Wildlife Service

[FWS-R7-MB-2017-N141; FXMB12610700000-178-FF07M01000]

Change in Regional Partners for Upper Copper River Region for the Alaska Migratory Bird Co-Management Council

AGENCY: Fish and Wildlife Service, Interior.

ACTION: Notice.

SUMMARY: The U.S. Fish and Wildlife Service announces a change in a regional partner, representing the Upper Copper River region, on the Alaska Migratory Bird Co-management Council (Co-management Council). For the Upper Copper River region, the Copper River Native Association has elected to step down, and the Co-management Council is replacing that partner with the Ahtna Intertribal Resource Commission. This action will ensure continuity of the Co-management Council's operations.

DATES: The change in representation on the Co-management Council took effect October 1, 2017.

FOR FURTHER INFORMATION CONTACT: Donna Dewhurst, (907) 786-3499, U.S. Fish and Wildlife Service, 1011 E. Tudor Road, Mail Stop 201, Anchorage, AK 99503; donna_dewhurst@fws.gov.

SUPPLEMENTARY INFORMATION: The U.S. Fish and Wildlife Service (Service) regulates the subsistence take of migratory birds in Alaska through regulations in title 50 of the Code of Federal Regulations in part 92. The Service published a notice of decision in the Federal Register on March 28, 2000 (65 FR 16405), that established regional management bodies in Alaska to develop recommendations related to subsistence harvest. The notice of decision also established a single statewide management body consisting of representatives from each of the regions and one representative each from the Service and the Alaska Department of Fish and Game. In a final rule of July 21, 2003 (68 FR 43010), we announced that, of the 12 geographic regions that represent common subsistence resource use patterns in Alaska, 11 regional bodies elected to participate in the statewide management body. Membership on the 11 regional bodies comprises subsistence users from each of the active regions. The Service contracted with 11 partner organizations to organize and support the regional bodies.

Since 2000, the Co-management Council partner organization representing the Upper Copper River region has been the Copper River Native Association (CRNA). However, CRNA notified the Service, by letter dated August 11, 2017, of its request to cease the present regional partnership with the Co-management Council, and recommended that the Ahtna Intertribal Resource Commission could potentially be a good replacement. A phone poll was conducted of the Co-management Council on August 16, 2017, and they unanimously selected the Ahtna Intertribal Resource Commission as their replacement partner.

The new Co-management Council partner organization will ensure continuity of communication with the subsistence users of their regions to establish and maintain local representation on their regional management bodies. Partners are also responsible for coordinating meetings within their regions, soliciting proposals, and keeping the villages informed.

Dated: November 1, 2017.
Gregory E. Siekaniec
Regional Director, Anchorage, Alaska.

[FR Doc. 2017-26169 Filed 12-4-17; 8:45 am]

BILLING CODE 4333-15-P